DEPARTMENT OF DEFENSE

Department of the Army; Corps of Engineers

Intent To Prepare a Draft Environmental Impact Statement To Reduce Avian Predation on Juvenile Salmonids Through Management of Double-Crested Cormorants in the Columbia River Estuary

AGENCY: Department of the Army, U.S. Army Corps of Engineers, Department of Defense.

ACTION: Notice of intent.

SUMMARY: The U.S. Army Corps of Engineers, Portland District (Corps), intends to prepare a Draft Environmental Impact Statement (DEIS) to reduce avian predation on juvenile salmonids through management of double-crested cormorants (Phalacrocorax auritus; hereafter, cormorant used alone refers to double-crested cormorant) in the Columbia River Estuary (CRE). Recent increases in the number of cormorants nesting in the CRE has led to concerns over their potential impact on the recovery of federally-listed threatened and endangered Columbia River basin salmonids (Oncorhynchus spp.; i.e., salmon and steelhead). In 2010 and 2011, the cormorant colony at East Sand Island (ESI) in the CRE consumed about 19.2 and 22.6 million out-migrating juvenile salmonids, which equates to about 18 percent of the entire out-migrating salmon for those years. A portion of the salmonids consumed are listed under the Endangered Species Act (ESA). Managing cormorants to reduce predation on salmonids would complement other recovery efforts to address the threats that caused these fish to be listed under the ESA and would contribute to the overall recovery of listed salmonids in the Columbia River basin.

DATES: The Corps expects to release the DEIS for public review and comment in the fall of 2013.

FOR FURTHER INFORMATION CONTACT: Ms. Sondra Ruckwardt, Project Manager, U.S. Army Corps of Engineers, Portland District, P.O. Box 2946, Portland, OR 97208, by phone at 503-808-4691 or by email at: sondra.k.ruckwardt@usace.army.mil.

SUPPLEMENTARY INFORMATION: The Corps will prepare a DEIS to reduce avian predation on juvenile salmonids through management of cormorants in the CRE.

The U.S. Army Corps of Engineers responsibilities for cormorant management are identified under Public Law 106-53, Section 582c “(1) NESTING AVIAN PREDATORS—In conjunction with the Secretary of Commerce and the Secretary of the Interior, and consistent with a management plan to be developed by the United States Fish and Wildlife Service, the Secretary [of the Army] shall carry out methods to reduce nesting populations of avian predators on dredge spoil islands in the Columbia River under the jurisdiction of the Secretary.”

The Corps is currently preparing a draft management plan that will include effective alternatives to reduce salmonid consumption by cormorants at ESI. The management plan is necessary to implement avian predation management actions provided for in the 2008 Federal Columbia River Power System (FCRPS) Biological Opinion (BiOp) (NOAA Fisheries 2008), the Reasonable and Prudent Alternative included in the 2008 BiOp and the 2010 FCRPS Supplemental BiOp (NOAA Fisheries 2010) to facilitate achievement of adult escapement goals identified for ESA-listed salmonids in the Columbia Basin.

The increase in consumption of juvenile salmonids by cormorants is the result of an unprecedented increase of cormorants on ESI where the number of breeding pairs increased by 1,400 percent between 1989 and 2007. Reducing cormorant predation in the CRE, in combination with other initiatives that aim to improve juvenile salmonid survival, is anticipated to increase population growth rates of ESA-listed salmonids in the Columbia River basin.

The Corps will evaluate alternatives for their ability to reduce cormorant predation on ESA-listed Columbia River salmonids in the CRE. The preliminary range of alternatives will include, but are not limited to reducing the ESI colony by 25 percent, by 50 percent and by 75 percent by a variety of methods. Some of these methods may include dissuasion techniques, habitat alterations and lethal removal. Also, per the National Environmental Policy Act regulations the Corps will also analyze a No Action alternative (status quo). Preliminary analyses of the benefits of reducing bird numbers with the preliminary action alternatives indicate increases in population growth rates for three of the thirteen ESA-listed salmonids by 0.5 to 1.5 percent. Any additional alternatives will be developed through public involvement and best available scientific information.

Scoping Process: a. The Corps invites affected Federal, State, local agencies, Native American tribes and other interested organizations and individuals to participate in the development of the DEIS. The Corps anticipates conducting public scoping meetings for the DEIS in late summer of 2012 although the exact date, time and location of these meeting have not been determined yet. Once meeting arrangements have been made, the Corps will publicize this information. The Corps will provide notice to the public of additional opportunities for public input on the EIS during review periods for the draft and final EIS.

b. Significant issues to be analyzed in the DEIS include, but are not limited to: avian predation of juvenile salmonids, management of the largest double-crested cormorant colony in the Western Region, potential impacts to fisheries outside the CRE, potential impacts to commercial and recreational fisheries and potential impacts to tribal fisheries.

c. The Corps will serve as the lead Federal agency in preparation of the DEIS. A decision will be made during the scoping process whether other agencies and/or tribes will serve in an official role as cooperating agencies.

Dated: July 5, 2012.
John W. Eisenhauer,
Colonel, Corps of Engineers, District Commander.

[FR Doc. 2012-17598 Filed 7-18-12; 8:45 am]

BILLING CODE 3720-58-P